DEPARTMENT OF HEALTH AND HUMAN SERVICES

National Institutes of Health

Government-Owned Inventions; Availability for Licensing

AGENCY: National Institutes of Health, Public Health Service, HHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Production of Adeno-Associated Virus in Insect Cells

Robert M Kotin et al. (NHLBI)

Serial No. 09/986,618 filed 09 Nov 01

Licensing Contact: Susan Rucker; 301/496-7735 ext 245; e-mail: ruckers@od.nih.gov

The invention, described and claimed in this patent application, relates to the field of production of recombinant adeno-associated virus (rAAV). More particularly, the invention relates to systems for producing rAAV in a baculovirus-based system. The systems for producing rAAV can use the AAV Rep protein and an AAV ITR or the insect counterpart thereof, NS-1 and a chimeric ITR derived from AAV but containing the NS-1 binding site and the NS1-nicking site. The invention provides for increased production of rAAV when compared to mammalian systems employing 293 cells which are typically used for rAAV production.

This work has been published in part in C Ding et al., J. Virol. 76(1): 338-45 (Jan. 2002).

Microbial Identification Databases

Jon G. Wilkes et al. (FDA)

Serial No. 09/975,530 filed 10 Oct 2001

Licensing Contact: Dale Berkley; 301/496-7735 ext. 223; e-mail: berkleyd@od.nih.gov

The invention is a method for assembling a coherent database containing an essentially unlimited number of pyrolysis mass spectra to enable rapid chemotaxonomy of unknown microbial samples. The invention corrects for short and long-term drift of microbial pyrolysis mass spectra by using spectra of similar microbes as internal standards. The invention provides for the first time a practical way to assemble a coherent database containing an essentially unlimited number of pyrolysis mass spectra or other instrumental “fingerprints”, where one or more is representative of each relevant strain, and representative of additional strains as they are added to the pool of microbial agents. Microorganisms can be identified using the invention from their fingerprint spectra regardless of the growth medium used to culture the bacteria. This is a result of the discovery that corrections made to the fingerprint spectrum of one type of bacterium to compensate for changes in growth medium may be applied successfully to metabolically similar bacteria. Fingerprint spectra to which the method of the invention may be applied include pyrolysis MALDI or other types of mass spectra, infrared spectra, chromatograms, NMR spectra and ion-mobility spectra. The present invention is especially useful for the rapid identification of microorganisms, including human pathogens.

Dated: February 20, 2002.
Jack Spiegel,
Director, Division of Technology Development and Transfer, Office of Technology Transfer, National Institutes of Health.

[FR Doc. 02-4832 Filed 2-27-02; 8:45 am]

BILLING CODE 4140-01-P